NUCLEAR REGULATORY COMMISSION

Notice of Intent To Prepare an Environmental Impact Statement for the Proposed USEC American Centrifuge Plant

AGENCY: United States Nuclear Regulatory Commission (NRC).

ACTION: Notice of Intent (NOI).

SUMMARY: USEC Inc., (USEC) submitted a license application to the NRC on August 23, 2004, proposing the construction, operation and future decommissioning of the American Centrifuge Plant (ACP) gas centrifuge uranium enrichment facility in Piketon, OH. The NRC announces its intent to prepare an Environmental Impact Statement (EIS) in accordance with the National Environmental Policy Act (NEPA) and NRC NEPA implementing regulations contained in 10 CFR part 51. The EIS will examine the potential environmental impacts of the proposed USEC ACP.

DATES: The public scoping process required by NEPA begins with publication of this NOI and continues until December 6, 2004. Written comments submitted by mail should be postmarked by that date to ensure consideration. Comments mailed after that date will be considered to the extent possible.

NRC will conduct a public scoping meeting to assist in defining the appropriate scope of the EIS, including the significant environmental issues to be addressed. The meeting date, times and location are listed below:

Meeting Date: November 15, 2004.

Meeting Location: Vern Riffe Career Technology Center, 175 Beaver Creek Road, Piketon, Ohio 45661.

Scoping Meeting: 7 p.m. to 9:45 p.m.

Members of the NRC staff will be available for informal discussions with members of the public from 6 p.m. to 7 p.m. The formal meeting and associated NRC presentation begins at 7 p.m. For planning purposes, those who wish to present oral comments at the meeting are encouraged to pre-register by contacting Matthew Blevins of the NRC by telephone at 1-800-368-5642, Extension 7684, or by e-mail at mxb6@nrc.gov no later than November 9, 2004. Interested persons may also register to speak at the meeting.

ADDRESSES: Members of the public and interested parties are invited and encouraged to submit comments to the Chief, Rules Review and Directives Branch, Mail Stop T-6D59, U.S. Nuclear Regulatory Commission, Washington, DC 20555-0001. Due to the current mail situation in the Washington, DC area, the NRC encourages comments to be submitted electronically to nrcrep@nrc.gov. Please refer to Docket No. 70-7004 when submitting comments.

FOR FURTHER INFORMATION CONTACT: For general or technical information associated with the license review of the USEC application, please contact: Yawar Faraz at (301) 415-8113. For general information on the NRC NEPA process, or the environmental review process related to the USEC application, please contact: Matthew Blevins at (301) 415-7684.

Information and documents associated with the USEC project, including the USEC license application (submitted on August 23, 2004), are available for public review through the NRC Electronic Reading Room: http://www.nrc.gov/reading-rm/adams.html, using accession number ML042800551. Documents may also be obtained from the NRC Public Document Room at U.S. Nuclear Regulatory Commission Headquarters, 11555 Rockville Pike (first floor), Rockville, Maryland, 20852-2738.

SUPPLEMENTARY INFORMATION:

1.0 Background

USEC submitted a license application which included an Environmental Report for a gas centrifuge uranium enrichment facility, known as the ACP, to the NRC on August 23, 2004. The NRC environmental review will evaluate the potential environmental impacts associated with the proposed ACP in parallel with the NRC safety and security reviews of the license application. The environmental review will be documented in draft and final Environmental Impact Statements in accordance with NEPA and NRC NEPA implementing regulations contained in 10 CFR part 51.

2.0 USEC Enrichment Facility

If licensed, the proposed ACP would enrich uranium for use in manufacturing commercial nuclear fuel for use in power reactors. Feed and product material would be in the form of uranium hexafluoride (UF6). USEC seeks approval from the NRC to enrich uranium in the uranium-235 isotope up to 10 percent. The enriched UF6 would be transported to a fuel fabrication facility. The depleted UF6 would be stored on site until a disposition strategy (either re-use or disposal) is carried out.

Initially, the licensed capacity of the plant would be up to 3.5 million separative work units (SWU) per year [SWU relates to a measure of the work used to enrich uranium]. USEC has requested that the NRC environmental review examine the impacts of an enrichment plant with a 7 million SWU per year capacity to bound potential future expansions. The safety and security reviews of any future expansion beyond 3.5 million SWU per year would still have to be conducted by the NRC under a separate license amendment request from USEC.

3.0 Alternatives To Be Evaluated

No action—The no-action alternative would be to not build the proposed ACP. Under this alternative the NRC would not approve the license application. This alternative serves as a baseline for comparison.

Proposed action—The proposed action is the construction and operation of a gas centrifuge uranium enrichment facility located in Piketon, OH. Implementation of the proposed action would require the issuance of an NRC license under the provisions of 10 CFR parts 30, 40 and 70.

Other alternatives not listed here may be identified through the scoping process.

4.0 Environmental Impact Areas To Be Analyzed

The following resource areas have been tentatively identified for analysis in the EIS:

—Public and Occupational Health: Potential public and occupational consequences from construction, routine operation, transportation, and credible accident scenarios (including natural events);

—Waste Management: Types of wastes expected to be generated, handled, stored and subject to re-use or disposal;

—Land Use: Plans, policies and controls;

—Transportation: Transportation modes, routes, quantities, and risk estimates;

—Geology and Soils: Physical geography, topography, geology and soil characteristics;

—Water Resources: Surface and groundwater hydrology, water use and quality, and the potential for degradation;

—Ecology: Wetlands, aquatic, terrestrial, economically and recreationally important species, and threatened and endangered species;

—Air Quality: Meteorological conditions, ambient background, pollutant sources, and the potential for degradation;

—Noise: Ambient, sources, and sensitive receptors;

—Historical and Cultural Resources: Historical, archaeological, and traditional cultural resources;

—Visual and Scenic Resources: Landscape characteristics, manmade features and viewshed;

—Socioeconomics: Demography, economic base, labor pool, housing, transportation, utilities, public services/facilities, education, recreation, and cultural resources;

—Environmental Justice: Potential disproportionately high and adverse impacts to minority and low-income populations; and

—Cumulative Effects: Impacts from past, present and reasonably foreseeable actions at and near the site.

The examples under each resource area are not intended to be all inclusive, nor is this list an indication that environmental impacts will occur. The list is presented to facilitate comments on the scope of the EIS. Additions to, or deletions from, this list may occur as a result of the public scoping process.

5.0 Scoping Meetings

This NOI is to encourage public involvement in the EIS process and to solicit public comments on the proposed scope and content of the EIS. NRC will hold a public scoping meeting in Piketon, OH on November 15, 2004 to solicit both oral and written comments from interested parties.

Scoping is an early and open process designed to determine the range of actions, alternatives, and potential impacts to be considered in the EIS, and to identify the significant issues related to the proposed action. Scoping is intended to solicit input from the public and other agencies so that the analysis can be more clearly focused on issues of genuine concern. The principal goals of the scoping process are to:

—Identify public concerns;

—Ensure that concerns are identified early and are properly studied;

—Identify alternatives that will be examined;

—Identify significant issues that need to be analyzed; and

—Eliminate unimportant issues.

The scoping meetings will begin with NRC staff providing a description of NRC's role and mission followed by a brief overview of NRC's environmental review process and goals of the scoping meeting. The bulk of the meeting will be allotted for attendees to make oral comments.

6.0 Scoping Comments

Written comments should be mailed to the address listed above in the ADDRESSES section.

The NRC staff will prepare a scoping summary report in which it will summarize public comments. The NRC will make the scoping summary report and project-related materials available for public review through its Electronic Reading Room: http://www.nrc.gov/reading-rm/adams.html. The scoping meeting summary and project-related materials will also be available on the NRC's USEC Web page: http://www.nrc.gov/materials/fuel-cycle-fac/usecfacility.html (case sensitive).

7.0 The NEPA Process

The EIS for the proposed ACP will be prepared according to NEPA and NRC NEPA implementing regulations contained in 10 CFR part 51.

After the scoping process is complete, the NRC will prepare a draft EIS. The draft EIS is scheduled to be published by July 2005. A 45-day comment period on the draft EIS is planned, and a public meeting to receive comments will be held approximately three weeks after publication of the draft EIS. Availability of the draft EIS, the dates of the public comment period, and information about the public meeting will be announced in the Federal Register, on NRC's USEC Web page, and in the local news media. The final EIS is expected to be published in March 2006 and will incorporate, as appropriate, public comments received on the draft EIS.

Signed in Rockville, MD, this 7th day of October 2004.
For the Nuclear Regulatory Commission.
B. Jennifer Davis,
Chief, Environmental and Performance Assessment Directorate, Division of Waste Management and Environmental Protection, Office of Nuclear Material Safety and Safeguards.

[FR Doc. 04-23134 Filed 10-14-04; 8:45 am]

BILLING CODE 7590-01-P